OFFICE OF MANAGEMENT AND BUDGET

DEPARTMENT OF VETERANS AFFAIRS

Cost-Based and Inter-Agency Billing Rates for Medical Care or Services Provided by the Department of Veterans Affairs

AGENCY: Office of Management and Budget, Executive Office of the President and the Department of Veterans Affairs.

ACTION: Notice.

SUMMARY: This document updates the Cost-Based and Inter-Agency billing rates for medical care or services provided by the Department of Veterans Affairs (VA) that apply in certain circumstances. This notice is issued jointly by the Office of Management and Budget and the Department of Veterans Affairs.

DATES: Effective Date: The rates set forth herein are effective July 11, 2011 and until further notice.

FOR FURTHER INFORMATION CONTACT: Romona Greene, Chief Business Office (168), Veterans Health Administration, Department of Veterans Affairs, 810 Vermont Avenue, NW., Washington, DC 20420, (202) 461-1595. (This is not a toll free number.)

SUPPLEMENTARY INFORMATION: VA's methodology for computing Cost-Based and Inter-Agency billing rates for medical care or services provided by VA is set forth in 38 CFR 17.102(h). These rates apply to medical care or services provided:

(a) In error or based on tentative eligibility;

(b) In a medical emergency;

(c) To pensioners of allied nations;

(d) For research purposes in circumstances under which VA medical care appropriation is to be reimbursed by VA research appropriation; and

(e) To beneficiaries of the Department of Defense (DoD) or other Federal agencies, when the care or service provided is not covered by an applicable sharing agreement. The rates contained in this notice do not apply to sharing agreements between VA and DoD unless otherwise stated.

Two sets of rates are obtained via application of this methodology: Cost-Based rates, for use for purposes (a) through (d), above, and Inter-Agency rates, for use for purpose (e), above. The calculations for the Cost-Based and Inter-Agency rates are the same except that Inter-Agency rates are not broken down into three components (Physician; Ancillary; and Nursing, Room, and Board), and they do not include standard fringe benefit costs covering government employee retirement, disability costs, and return on fixed assets.

When VA pays for medical care or service from a non-VA source under circumstances in which the Cost-Based or Inter-Agency Rates would apply if the care or service had been provided by VA, the charge for such care or service will be the actual amount paid by VA for that care or service.

Inpatient charges will be at the per diem rates shown for the type of bed section or discrete treatment unit providing the care.

The third party pharmacy rate will remain the same as set forth in the notice published in the Federal Register on November 3, 2005 (70 FR 66866) until VA's final rule RIN 2900-AN15 for the “Charges Billed to Third Parties for Prescription Drugs Furnished by VA to a Veteran for a Nonservice-Connected Disability” is effective on March 18, 2011. VA's current third party pharmacy rate utilizes the cost-based methodology set forth in 38 CFR 17.102, which was only to be used until such time as charges for prescription drugs were implemented under the provisions of 38 CFR 17.101. Effective March 18, 2011, VA will use the new methodology set forth in 38 CFR 17.101(m).

Current rates obtained via the above methodology are as follows:

| Cost-based rates | Inter-agency rates
A. Hospital Care per inpatient day
General Medicine:
All Inclusive Rate | $2,384 | $2,232
Physician | 285 |
Ancillary | 621 |
Nursing Room and Board | 1,478 |
Neurology:
All Inclusive Rate | 3,899 | 3,648
Physician | 571 |
Ancillary | 1,029 |
Nursing Room and Board | 2,299 |
Rehabilitation Medicine:
All Inclusive Rate | 2,122 | 1,992
Physician | 241 |
Ancillary | 648 |
Nursing Room and Board | 1,233 |
Blind Rehabilitation:
All Inclusive Rate | 1,240 | 1,161
Physician | 100 |
Ancillary | 616 |
Nursing Room and Board | 524 |
Spinal Cord Injury:
All Inclusive Rate | 1,756 | 1,644
Physician | 218 |
Ancillary | 442 |
Nursing Room and Board | 1,096 |
Surgery:
All Inclusive Rate | 4,533 | 4,248
Physician | 500 |
Ancillary | 1,375 |
Nursing Room and Board | 2,658 |
General Psychiatry
All Inclusive Rate | 801 | 749
Physician | 76 |
Ancillary | 126 |
Nursing Room and Board | 599 |
Substance Abuse (Alcohol and Drug Treatment)
All Inclusive Rate | 1,154 | 1,081
Physician | 110 |
Ancillary | 267 |
Nursing Room and Board | 777 |
Psychosocial Residential Rehabilitation Program
All Inclusive Rate | 577 | 540
Physician | 36 |
Ancillary | 61 |
Nursing Room and Board | 480 |
Intermediate Medicine
All Inclusive Rate | 1,920 | 1,796
Physician | 94 |
Ancillary | 282 |
Nursing Room and Board | 1,544 |
Polytrauma Inpatient
All Inclusive Rate | 3,391 | 3,197
Physician | 385 |
Ancillary | 1,036 |
Nursing Room and Board | 1,970 |
B. Nursing Home Care, Per Day
All Inclusive Rate | 993 | 929
Physician | 31 |
Ancillary | 134 |
Nursing Room and Board | 828 |
C. Outpatient Medical and Emergency Dental Treatment
Outpatient Visit (Other than Emergency Dental) | 231 | 214
Emergency Dental Outpatient Visit | 487 | 416
PM&RS Outpatient Visit | 430 | 401
Outpatient PolyTrauma/Traumatic Brain Injury | 573 | 535

Beginning on the effective date indicated herein, these rates supersede those established by VA and by the Director of Office of Management and Budget on November 3, 2005 (70 FR 66866).

Approved: August 9, 2010.
John R. Gingrich,
Chief of Staff, Department of Veterans Affairs.
Approved: June 29, 2011.
Jacob J. Lew,
Director, Office of Management and Budget.

[FR Doc. 2011-17263 Filed 7-8-11; 8:45 am]

BILLING CODE 3110-01-P